FEDERAL MARITIME COMMISSION

Solicitation for Applications To Serve as Members on the National Shipper Advisory Committee

AGENCY: Federal Maritime Commission.

ACTION: Request for applications.

SUMMARY: The Federal Maritime Commission (“Commission”) is requesting applications from qualified candidates to be considered for appointment as a member of the National Shipper Advisory Committee (“Committee”). This recently established Committee will advise the Commission on policies relating to the competitiveness, reliability, integrity, and fairness of the international ocean freight delivery system.

DATES: Applications should be sent to the email address specified below and must be received on or before June 30, 2021.

ADDRESSES: All applications should be emailed to the Designated Federal Officer (DFO), Rachel E. Dickon, Email: nsac@fmc.gov.

FOR FURTHER INFORMATION CONTACT: Rachel E. Dickon, Phone: (202) 523-5725; Email: nsac@fmc.gov. A copy of the Committee's charter can be obtained by accessing the Committee website at www.fmc.gov.

SUPPLEMENTARY INFORMATION: The National Shipper Advisory Committee is a federal advisory committee. It will operate under the provisions of the Federal Advisory Committee Act, 5 U.S.C. App., and 46 U.S.C. chapter 425. The Committee was established on January 1, 2021, when the National Defense Authorization Act for Fiscal Year 2021 became law. Public Law 116-283, section 8604, 134 Stat. 3388 (2021). The Committee will provide information, insight, and expertise pertaining to conditions in the ocean freight delivery system to the Commission. Specifically, the Committee will advise the Commission on policies relating to the competitiveness, reliability, integrity, and fairness of the international ocean freight delivery system. 46 U.S.C. 42502(b).

The Committee will consist of twenty-four members, including a Chair and a Vice Chair, elected by the Committee from among the Committee's members. Id. 42502(c)(1), 42503(g). Twelve members will represent entities who export cargo from the United States using ocean common carriers and twelve members will represent entities who import cargo to the United States using ocean common carriers. Id. 42502(c)(3). The Commission intends to balance the membership of the Committee and will consider factors to include commodities shipped, ports used, geographic areas served, and origins of cargo, as well as other relevant factors. Appointments shall be made without discrimination on the basis of age, race, color, national origin, sex, disability, or religion.

Members are appointed by and serve at the pleasure of the Commission. Id. 42503(e)(2) and (3). The Commission may require an individual to pass an appropriate security background examination before appointment to the Committee. Id. 42503(e)(4). Under 46 U.S.C. 42503(e)(6)(a), membership terms expire on December 31 of the third full year after the effective date of the appointment. After a member's term expires, the member may continue to serve for up to one year until a successor is appointed. Id. 42503(e)(6)(B). Members' terms are renewable. Id. 42503(e)(8).

In accordance with 46 U.S.C. 42503(a), the Committee is required to hold meetings at least once a year, but it may meet at the call of the Commission or a majority of the Committee members. The Commission plans to host Committee meetings at Commission headquarters at 800 North Capitol Street Northwest, Washington, DC or virtually using video meeting technology. All members will serve at their own expense and receive no salary or other compensation from the Federal Government.

The following information must be included in the package of materials submitted for each individual applying for consideration:

(1) A statement that includes the name and affiliation of the applicant and a clear statement regarding the basis for the application, including the entity that the individual would represent, an explanation of how that entity is an exporter of cargo from or an importer of cargo to the United States using ocean common carriers, and a description of the individual's first-hand experience, knowledge, or expertise in matters relating to the international ocean freight delivery system;

(2) confirmation the applicant is willing to serve as a member of the Committee on a voluntary basis, without compensation or reimbursement;

(3) the applicant's contact information (please include address, daytime telephone number, and an email address); and

(4) a current copy of the applicant's curriculum vitae.

Applications may be submitted directly by the individual applying for consideration or by a person or organization recommending the candidate for consideration.

Members who qualify as special Government employees (SGEs) shall demonstrate that they are in compliance with applicable ethics laws and regulations and comply with any requests or measures necessary to allow the Commission's Designated Agency Ethics Official to access and review financial disclosure reports and conduct a conflict-of-interest analysis. Except for members who qualify as SGEs, members appointed to represent the interests of a particular group or entity are not subject to Federal rules and requirements that would interfere with that representation. 46 U.S.C. 42503(d)(1). Non-SGE members may be required to comply with Federal rules and laws governing employee conduct that will not impact their ability to represent the interests they were appointed to serve.

Dated: June 7, 2021.
By the Commission.
Rachel E. Dickon,
Secretary.

[FR Doc. 2021-12240 Filed 6-10-21; 8:45 am]

BILLING CODE 6730-02-P